DEPARTMENT OF THE INTERIOR

National Park Service

[NPS-WASO-NAGPRA-19373; PPWOCRADN0-PCU00RP14.R50000]

Notice of Intent to Repatriate Cultural Items: City of Bellingham/Whatcom Museum, Bellingham, WA

AGENCY: National Park Service, Interior.

ACTION: Notice.

SUMMARY: The City of Bellingham/Whatcom Museum (Whatcom Museum), in consultation with the appropriate Indian tribes or Native Hawaiian organizations, has determined that the cultural item listed in this notice meets the definitions of object of cultural patrimony and sacred object. Lineal descendants or representatives of any Indian tribe or Native Hawaiian organization not identified in this notice that wish to claim this cultural item should submit a written request to Whatcom Museum. If no additional claimants come forward, transfer of control of the cultural item to the lineal descendants, Indian tribes, or Native Hawaiian organizations stated in this notice may proceed.

DATES: Lineal descendants or representatives of any Indian tribe or Native Hawaiian organization not identified in this notice that wish to claim this cultural item should submit a written request with information in support of the claim to Whatcom Museum at the address in this notice by November 16, 2015.

ADDRESSES: Rebecca L. Hutchins, Curator of Collections, Whatcom Museum, 121 Prospect Street, Bellingham, WA 98225, telephone (360) 778-8955, email rlhutchins@cob.org.

SUPPLEMENTARY INFORMATION: Notice is here given in accordance with the Native American Graves Protection and Repatriation Act (NAGPRA), 25 U.S.C. 3005, of the intent to repatriate a cultural item under the control of Whatcom Museum, Bellingham, WA, that meets the definition of an object of cultural patrimony and sacred object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

On November 15, 1975, Whatcom Museum entered into a purchase agreement with the Michael R. Johnson Gallery in Seattle, WA, and took possession of a Tlingit Chilkat blanket (1975.117.1). Accompanying documents indicate that the blanket, described as “bear and abs (sic) design” was collected at Yakatat, AK in 1974, by a private collector based out of Tacoma, WA. A photocopy enclosed with the purchase agreement shows an image of the blanket hanging as a backdrop to a group of people in ceremonial regalia. Accompanying notes indicate this image was taken between 1935 and 1940, and was obtained from the Alaska State Library in Juneau, AK.

Based on consultation with the Central Council of the Tlingit & Haida Indian Tribes, Whatcom Museum reasonably believes this cultural item is culturally affiliated with the Tlingit and Haida Indian Tribes. Furthermore, the museum was also informed during consultation that the object is considered to be both a sacred object and an object of cultural patrimony.

Determinations Made by Whatcom Museum

Officials of Whatcom Museum have determined that:

• Pursuant to 25 U.S.C. 3001(3)(C), the one cultural item described above is a specific ceremonial object needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the sacred object/object of cultural patrimony and the Central Council of the Tlingit & Haida Indian Tribes.

Additional Requestors and Disposition

Lineal descendants or representatives of any Indian tribe or Native Hawaiian organization not identified in this notice that wish to claim these cultural items should submit a written request with information in support of the claim to Rebecca L. Hutchins, Curator of Collections, Whatcom Museum, 121 Prospect Street, Bellingham, WA 98225, telephone (360) 778-8955, email rlhutchins@cob.org, by November 16, 2015. After that date, if no additional claimants have come forward, transfer of control of this sacred object/object of cultural patrimony to the Central Council of the Tlingit & Haida Indian Tribes may proceed.

Whatcom Museum is responsible for notifying the Central Council of the Tlingit & Haida Indian Tribes that this notice has been published.

Dated: September 18, 2015.
Melanie O'Brien,
Manager, National NAGPRA Program.

[FR Doc. 2015-26289 Filed 10-14-15; 8:45 am]

BILLING CODE 4312-50-P